DEPARTMENT OF THE TREASURY

Departmental Offices; Proposed Collections; Comment Requests

ACTION: Notice and request for comments.

SUMMARY: The Department of the Treasury, as part of its continuing effort to reduce paperwork burdens, invites the general public and other Federal agencies to comment on the revision of an information collection that is proposed for approval by the Office of Management and Budget. The Office of International Affairs within the Department of the Treasury is soliciting comments concerning Treasury International Capital Form D, Report of Holdings of, and Transactions in, Financial Derivatives Contracts with Foreign Residents.

DATES: Written comments should be received on or before August 1, 2008 to be assured of consideration.

ADDRESSES: Direct all written comments to Dwight Wolkow, International Portfolio Investment Data Systems, Department of the Treasury, Room 5422, 1500 Pennsylvania Avenue, NW., Washington, DC 20220. In view of possible delays in mail delivery, please also notify Mr. Wolkow by e-mail (dwight.wolkow@do.treas.gov), FAX (202-622-2009) or telephone (202-622-1276).

FOR FURTHER INFORMATION CONTACT: Copies of the proposed forms and instructions are available on the Treasury's TIC Forms Web page, http://www.treas.gov/tic/forms.html. Requests for additional information should be directed to Mr. Wolkow.

SUPPLEMENTARY INFORMATION: Title: Treasury International Capital Form D, Report of Holdings of, and Transactions in, Financial Derivatives Contracts with Foreign Residents.

OMB Control Number: 1505-0199.

Abstract: Form D is part of the Treasury International Capital (TIC) reporting system, which is required by law (22 U.S.C. 286f; 22 U.S.C. 3103; E.O. 10033; 31 CFR 128) for the purpose of providing timely information on international capital movements other than direct investment by U.S. persons. Form D is a quarterly report used to cover holdings and transactions in derivatives contracts undertaken between foreign resident counterparties and major U.S.-resident participants in derivatives markets. This information is necessary for compiling the U.S. balance of payments and international investment position accounts, and for formulating U.S. international financial and monetary policies.

Current Actions: (a) In Part 1 of Form D, eliminate memo line M.3 (code 86054); (b) collect additional information on equity and credit derivatives, under line 3 in Part 1 of Form D, on the following three new rows—line 3.a (Equity Contracts), line 3.b (Credit Derivative Contracts), and line 3.c (Other Contracts); (c) in the instructions, eliminate the choice that allowed netting of fair values by deleting the second sentence of the second paragraph of section I.E (accounting issues); (d) in order to reduce overall burden, the threshold for reporting will be changed as follows: (1) If the total notional value of worldwide holdings of derivatives (including contracts with U.S. and foreign residents, measured on a consolidated-worldwide accounting basis' for the reporter's own account and the accounts of the reporter's customers exceeds $400 billion at the end of the calendar quarter being reported, then the reporter should submit TIC Form D for that calendar quarter, the remaining quarters of the same calendar year and for the following calendar year, (2) in addition, if at any time the amount reported by a TIC D reporter for Grand Total Net Settlements (Part 1, Column 3, Row 7) exceeds $400 million (either a positive or negative value), the TIC Form D must be submitted for the following two calendar years, even if outstanding worldwide notional values fall below the $400 billion level. For example, the 2009 reporting panel will therefore be determined by outstanding notional values as well as by data previously reported on Form D. If a reporter's outstanding notional values are below $400 billion, the reporter must continue to file the TIC D report if the Grand Total Net Settlements (Part 1, Column 3, Row 7) exceeded $400 million in any quarter during the preceding two calendar years; and (e) these changes will be effective beginning with the reports as of March 31, 2009.

Type of Review: Revision of a currently approved collection.

Affected Public: Business or other for profit organizations.

Form D (1505-0199)

Estimated Number of Respondents: 35.

Estimated Average Time per Respondent: Thirty (30) hours per respondent per filing, effective with the report as of March 2009. Estimated Total Annual Burden Hours: 4,300 hours, based on 4 reporting periods per year.

REQUEST FOR COMMENTS: Comments submitted in response to this notice will be summarized and/or included in the request for Office of Management and Budget approval. All comments will become a matter of public record. The public is invited to submit written comments concerning: (a) Whether Form D is necessary for the proper performance of the functions of the Office of International Affairs, including whether the information will have practical uses; (b) the accuracy of the above estimate of the burdens; (c) ways to enhance the quality, usefulness and clarity of the information to be collected; (d) ways to minimize the reporting and/or record keeping burdens on respondents, including the use of information technologies to automate the collection of the data; and (e) estimates of capital or start-up costs of operation, maintenance and purchase of services to provide information.

Dwight Wolkow,
Administrator, International Portfolio Investment Data Systems.

[FR Doc. E8-12163 Filed 5-30-08; 8:45 am]

BILLING CODE 4810-25-P